POSTAL SERVICE

Privacy Act of 1974; System of Records

AGENCY: Postal Service.

ACTION: Notice of modified systems of records.

SUMMARY: The United States Postal Service® (USPS) is proposing to revise one General Privacy Act System of Records (SOR). These modifications are being proposed to support an initiative to streamline the employee lead generation entry process for leads submitted by USPS employees on behalf of business customers that request to speak with a USPS Sales Representative about Postal products and services. Employee leads generate potential opportunities for new revenue for the Postal Service. Streamlining and simplifying the entry process for the employee lead generation program will enhance the employee's ability to meet customer needs, improve responsiveness and encourage additional employees to participate in the LEADing Together program, or similar programs.

DATES: These revisions will become effective without further notice on November 3, 2022, unless in response to comments received on or before that date result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service has determined that General Privacy Act Systems of Records, USPS SOR 100.500, Personnel Resource Management Records, should be revised to support the streamlined entry process for employee lead generation programs.

I. Background

The Postal Service is implementing a streamlined process for employees that enter information about a Postal business customer lead for subsequent follow-up with a USPS Sales employee. The objective of this initiative is to improve ease of use for participating employees by pre-filling their work position and location information from a central database, rather than having to manually look-up needed information from multiple sources to complete the entry process. This new approach will assure that credit is assigned to the employee that acquires the lead submission from a business customer. Employee lead programs have been around since 2003 and have been an effective way of generating new revenue for the Postal Service. Enhancements are being made to support the LEADing Together initiative and are based on improvements in functionality that provide employees with a streamlined process for submitting customer leads. The streamlined process also reduces the complexity and time associated with the current manual lead entry process.

II. Rationale for Changes to USPS Privacy Act Systems of Records

The Postal Service continuously seeks to improve internal processes and procedures that will reduce workhours and increase productivity. Modifications are being proposed to USPS SOR 100.500, Personnel Resource Management Records to streamline and simplify the employee lead generation entry process by pre-filling work position and location information, resulting in improved ease of use. A summary of proposed modifications is listed below.

• A new Purpose is being added as purpose #4

• A new Category of Record is being added as categories of records #3, Employee lead generation program(s)

• The System Manager's title has been updated to reflect current USPS organizational structure

III. Description of the Modified System of Records

Pursuant to 5 U.S.C. 552a(e)(11), interested persons are invited to submit written data, views, or arguments on this proposal. A report of the proposed revisions has been sent to Congress and to the Office of Management and Budget for their evaluations. The Postal Service does not expect this amended system of records to have any adverse effect on individual privacy rights. Accordingly, for the reasons stated above, the Postal Service proposes revisions to this system of records as follows:

SYSTEM NAME AND NUMBER:

USPS 100.500 Personnel Resource Management Records.

SECURITY CLASSIFICATION:

None.

SYSTEM LOCATION:

Post Offices; area and district facilities; Human Resources and Operations, Headquarters; and Computer Operations Service Centers.

SYSTEM MANAGER(S):

Vice President, Human Resources, United States Postal Service, 475 L'Enfant Plaza SW, Washington, DC 20260.

Vice President, Logistics, United States Postal Service, 475 L'Enfant Plaza SW, Washington, DC 20260.

AUTHORITY FOR MAINTENANCE OF THE SYSTEM:

39 U.S.C. 401, 404, 1001, 1003, and 1005; and 29 U.S.C. 2601 et seq.

PURPOSE(S) OF THE SYSTEM:

1. To administer leave, attendance, and attendance-related awards; and to identify potential attendance problems.

2. To provide operations management with information about employee work schedules, mail volume, and productivity.

3. To administer the USPS fleet card program used to purchase commercial fuel and oil, maintenance repair, polishing and washing, servicing, shuttling, and towing.

4. To support the administration of employee lead generation programs, such as LEADing Together or similar programs, and to pre-fill individual work position and location information for participating employees as part of the lead entry process.

CATEGORIES OF INDIVIDUALS COVERED BY THE SYSTEM:

Current and former USPS employees.

CATEGORIES OF RECORDS IN THE SYSTEM:

1. Employee information: Name, home address, Social Security Number, employee identification number(s), postal assignment information, work contact information, finance number(s), duty location, and pay location, and Fleet Purchase Fleet Card Personal Identification Number (PIN).

2. Employee resource management information: Records related to workload, productivity, scheduling, availability, and absences, including family medical leave absences.

3. Employee lead generation program(s): Name, employee identification number(s), postal assignment information, work contact information, finance number(s), and duty location.

RECORD SOURCE CATEGORIES:

Employees; employees' supervisor or manager; and other systems of records.

ROUTINE USES OF RECORDS MAINTAINED IN THE SYSTEM, INCLUDING CATEGORIES OF USERS AND PURPOSES OF SUCH USES:

Standard routine uses 1. through 9. apply.

POLICIES AND PRACTICES FOR STORAGE OF RECORDS:

Automated database, computer storage media, digital files, and paper files.

POLICIES OF PRACTICES FOR RETRIEVAL OF RECORDS:

By employee name, Social Security Number, employee identification number(s), route number, duty or pay location, pay period or Fuel Purchase Fleet Card Personal Identification Number (PIN).

POLICIES AND PRACTICES FOR RETENTION AND DISPOSAL OF RECORDS:

1. Resource management records related to leave application, time and attendance, and light duty status are retained 3 years.

2. Family and Medical Leave Records are retained 5 years.

3. Other categories of resource management records are retained 1 year.

4. Records pertaining to the USPS fuel fleet card purchase program are retained for 10 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Restricted medical information is maintained in a separate locked cabinet under control of the FMLA Coordinator. Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure and Record Access Procedures above.

NOTIFICATION PROCEDURES:

Individuals wanting to know if information about them is maintained in this system must address inquiries to the facility head where currently or last employed. Headquarters employees must submit inquiries to Corporate Personnel Management, 475 L'Enfant Plaza SW, Washington, DC 20260. Inquiries must include full name, Social Security Number or Employee Identification Number, name and address of facility where last employed, and dates of USPS employment.

EXEMPTIONS PROMULGATED FOR THE SYSTEM:

None.

HISTORY:

May 15, 2020, 85 FR 29492; June 17, 2011, 76 FR 35483, June 27, 2012, 77 FR 38342.

Ruth B. Stevenson,
Chief Counsel, Ethics and Legal Compliance.

[FR Doc. 2022-21441 Filed 10-3-22; 8:45 am]

BILLING CODE 7710-12-P